DEPARTMENT OF COMMERCE

15 CFR Part 16

[Docket ID 260107-0006]

RIN 0605-AA74

Removing Obsolete Regulations Related to the Voluntary Consumer Product Information Labeling Program

AGENCY: Office of the Secretary, Department of Commerce.

ACTION: Final rule.

SUMMARY: By this rule, the Department of Commerce (Commerce) is eliminating its regulations establishing the procedures for a Voluntary Consumer Product Information Labeling Program (CPILP), as that program is now inactive, outdated, and unnecessary. This action is necessary to eliminate obsolete and unwarranted regulatory language from the Code of Federal Regulations and to ensure that Commerce's regulations remain accurate and up-to-date. The intended effect of this action is to improve and streamline Commerce's regulations and to reduce the risk of public confusion.

DATES: The rule is effective on January 15, 2026.

FOR FURTHER INFORMATION CONTACT: Daniel Sweeney, Senior Counsel, Office of the General Counsel, at (202) 482-1395.

SUPPLEMENTARY INFORMATION:

I. Background

Commerce is amending 15 CFR part 16, “Procedures for a Voluntary Consumer Product Information Labeling Program,” by removing all of the regulatory sections contained therein.

A. Regulatory History

Commerce first established its procedures for the CPILP in a final rule on May 25, 1977 (42 FR 26648). The regulations were promulgated under the authority of 15 U.S.C. 272, among other statutes, and were initially instituted on a limited pilot project basis. The stated goal of the program was to provide information on important product performance characteristics in a useful form, educate consumers and retailers on its use, and offer participating manufacturers a way to convey the advantages of their products.

The program sought to achieve its objectives by developing standardized test methods and labeling specifications for selected consumer products. The performance characteristics chosen for labeling were those of demonstrable importance to consumers that could not be evaluated by mere inspection but could be measured objectively. Any person could petition the Secretary of Commerce to find a need for labeling a particular product. If such a need was established, Commerce would develop a Performance Information Labeling Specification through a public notice-and-comment process. Each specification included the performance characteristics covered, the test methods to be used, a prototype label, and the conditions for participation.

Shortly after the program's inception, Commerce issued several amendments to its procedures. In a rule published on November 4, 1977 (42 FR 57686), Commerce granted the Secretary the authority to suspend the program's fees and charges. This change was made to provide greater flexibility and encourage manufacturer participation during the program's pilot phase, modifying the original intent to make the program self-sufficient. Subsequently, in a rule published on March 1, 1978 (43 FR 8255), Commerce amended the program's description to allow for the inclusion of performance information required by other Federal agencies on CPILP labels, provided the other agency agreed. This was intended to simplify product comparison for consumers and reduce labeling complexity for manufacturers. A final technical amendment was published on September 18, 1990 (55 FR 38315), which updated the name of the National Bureau of Standards to the National Institute of Standards and Technology (NIST). Notably, that notice also indicated that the office responsible for such programs, the Office of Product Standards Policy, had been terminated on August 23, 1988, as part of a broader reorganization.

B. Description of Regulations

The regulations at 15 CFR part 16 established the framework for the CPILP. Section 16.1 stated the purpose of the part, and § 16.2 described the program's goals and methods. Section 16.3 provided definitions for key terms such as consumer, participant, consumer product, and performance characteristic. The process for initiating and developing labeling standards was outlined in § 16.4, which detailed the requirements for a petition to find a need for a label, and § 16.5, which described the development of Performance Information Labeling Specifications. To ensure the program's viability, § 16.6 authorized the establishment of fees and charges, intended to make the program's operation self-sufficient. These fees were associated with the use of a Department of Commerce Mark, described in § 16.10, which was to be developed and registered for use on program labels. The procedures for manufacturers, importers, and other entities to voluntarily join the program were set forth in § 16.7, while § 16.8 outlined the conditions for the termination of participation, either by the Secretary for non-compliance or voluntarily by the participant. Section 16.9 established rules for “designated agents,” such as trade associations, which could be authorized to collect fees and statistical information from multiple participants. Finally, the part included provisions for the amendment of specifications (§ 16.11), consumer education (§ 16.12), coordination with State and local programs (§ 16.13), and the preparation of an annual report on the program's activities (§ 16.14).

II. Discussion

By this rule, Commerce is eliminating 15 CFR part 16 in its entirety. As an initial matter, no statutory authority mandates the promulgation and maintenance of the regulations at part 16. To be sure, while 15 U.S.C. 272 grants general authority to Commerce and NIST to cooperate with other government entities and industry on voluntary standards and to disseminate technical information, it does not require the specific procedural framework established by part 16. In the absence of a statutory mandate, and upon review, Commerce now finds part 16 to be unwarranted. The program to which part 16 relates is no longer active or relied upon within Commerce and, given current business practices as well as the existence of other mechanisms for the development of metrology-based packaging and labeling standards and practices, the regulations at part 16 no longer serve any meaningful function. The removal of part 16 is therefore consistent with Commerce's broader deregulatory approach of reconsidering and eliminating regulations that are neither statutorily required nor justified by a compelling interest. The removal of part 16 will also reduce regulatory complexity and clutter and therefore reduce the possibility of public confusion related to the labeling of consumer products.

III. Classifications

A. Administrative Procedure Act

Pursuant to 5 U.S.C. 553(b)(B), Commerce finds good cause to waive the prior notice and opportunity for public participation requirements of the Administrative Procedure Act for this final rule. Commerce considers this rule to be uncontroversial, and has determined that prior notice and opportunity for public participation is unnecessary, because this rule only removes outdated regulations that are not required by statute, that no longer serve any meaningful function, and that pose a genuine risk of creating confusion regarding governmental processes for the labeling of consumer products; the program to which part 16 relates is now fully defunct, and that would be not be changed by inviting public comment. For the same reasons, Commerce has determined, pursuant to 5 U.S.C. 553(d), that delaying the effectiveness, of these amendments would be contrary to the public interest. The outdated regulations being removed by this rule currently pose a risk of confusion and distraction; their immediate removal will benefit the public at little to no cost. Commerce therefore finds good cause to waive the public notice and comment period under 553(b)(B) and to waive the 30-day delay in effectiveness under 553(d).

B. Executive Orders 12866, 14192, 13132

The Office of Management and Budget has determined this rule is not significant pursuant to Executive Order (E.O.) 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501 et seq.

List of Subjects for 15 CFR Part 16

Administrative practice and procedure, Advertising, Consumer protection, Education, Labeling, Reporting and recordkeeping requirements, Trademarks, Voluntary standards.

Dated: January 13, 2026.
Paul Dabbar,
Deputy Secretary of Commerce.

PART 16—[REMOVED AND RESERVED]

For the reasons set forth in the preamble under the authority of 15 U.S.C. 272 and 5 U.S.C. 301, the Department of Commerce removes and reserves 15 CFR part 16.

[FR Doc. 2026-00686 Filed 1-14-26; 8:45 am]

BILLING CODE 3510-13-P